DEPARTMENT OF EDUCATION

[Docket No.: ED-2024-SCC-0122]

Agency Information Collection Activities; Comment Request; Monitoring of Section 8546 Prohibition on Aiding and Abetting Sexual Abuse State Educational Agency Self-Assessment

AGENCY: Office of Elementary and Secondary Education (OESE), Department of Education (ED).

ACTION: Notice.

SUMMARY: In accordance with the Paperwork Reduction Act (PRA) of 1995, the Department is proposing a new information collection request (ICR).

DATES: Interested persons are invited to submit comments on or before December 2, 2024.

ADDRESSES: To access and review all the documents related to the information collection listed in this notice, please use http://www.regulations.gov by searching the Docket ID number ED-2024-SCC-0122. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Marcos Cerdeira, 202-453-5819.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Monitoring of Section 8546 Prohibition on Aiding and Abetting Sexual Abuse State Educational Agency Self-Assessment.

OMB Control Number: 1810-NEW.

Type of Review: A new ICR.

Respondents/Affected Public: State, Local, and Tribal Governments.

Total Estimated Number of Annual Responses: 53.

Total Estimated Number of Annual Burden Hours: 212.

Abstract: Section 8546 of the Elementary and Secondary Education Act of 1965, as amended, (ESEA) requires that A State, State educational agency, or local educational agency in the case of a local educational agency that receives Federal funds under this Act shall have laws, regulations, or policies that prohibit any individual who is a school employee, contractor, or agent, or any State educational agency or local educational agency, from assisting a school employee, contractor, or agent in obtaining a new job, apart from the routine transmission of administrative and personnel files, if the individual or agency knows, or has probable cause to believe, that such school employee, contractor, or agent engaged in sexual misconduct regarding a minor or student in violation of the law. In order to understand state and local compliance with section 8546 and provide technical assistance to support state and local efforts to keep students safe from sexual predators in K12 school settings, staff in the Office of Elementary and Secondary Education (OESE) at the U.S. Department of Education (the Department) will implement this monitoring protocol.

Congress included section 8546 as part of the ESEA reauthorized by the Every Student Succeeds Act and directed the Department to provide publicly available information on the status of each states compliance with this provision in the fiscal year 2024 Federal budget. Specifically, Congress directed the Department to brief the Committees on key actions completed and plans to ensure state and local compliance with the requirements of section 8546 of the ESEA not later than 90 days after enactment of this fiscal year 2024 budget. Such briefing shall include a discussion of actions taken on recommendations from the Department-funded “Study of State Policies to Prohibit Aiding and Abetting Sexual Misconduct in Schools, and other technical assistance and support, enforcement and accountability actions, implementation challenges, and the metrics the agency is using to measure improved State and local compliance with this section of the law. Not later than 240 days after enactment, the Department is directed to publicly post a status report on State and local compliance and its plans to ensure State and local compliance with such section.

This will be a new collection and rulemaking will not be involved.

Dated: September 26, 2024.
Kun Mullan,
PRA Coordinator, Strategic Collections and Clearance, Governance and Strategy Division, Office of Chief Data Officer, Office of Planning, Evaluation and Policy Development.

[FR Doc. 2024-22464 Filed 9-30-24; 8:45 am]

BILLING CODE 4000-01-P